NUCLEAR REGULATORY COMMISSION

Application for a License To Import Radioactive Waste

Pursuant to 10 CFR 110.70(c) “Public notice of receipt of an application,” please take notice that the Nuclear Regulatory Commission has received the following application for an import license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning the application follows:

NRC Import License Application
Name of applicant Date of application Date received Application No. | Description of material: Material type | Description of material: Total Qty. | Description of material: End use | Description of material: Point of origin
Allied Class Technology Group December 22, 2000; March 22, 2001 (Revised) December 28, 2000; March 23, 2001 IW011 | Class A radioactive waste. Scrap metal contaminated with Cobalt 60 and Cesium-137 | 3,000 tons | Decontamination of metals for recycle or solid waste disposal. Secondary low-level radioactive waste generated from processing will be disposed of at US Ecology facility in Richland, WA | Taiwan.

For the Nuclear Regulatory Commission.
Dated this 9th day of April 2001 at Rockville, Maryland.
Ronald D. Hauber,
Deputy Director, Office of International Programs.

[FR Doc. 01-9323 Filed 4-13-01; 8:45 am]

BILLING CODE 7590-01-P